SECURITIES AND EXCHANGE COMMISSION

Proposed Collection; Comment Request

Upon Written Request, Copies Available From: Securities and Exchange Commission, Office of Filings and Information Services, 450 Fifth Street, NW, Washington, DC 20549.

Extension: Rule 55; SEC File No. 270-376; OMB Control No. 3235-0430.

Notice is hereby given that pursuant to the Paperwork Reduction Act of 1995 (44 U.S.C. 3501 et seq.) the Securities and Exchange Commission (“Commission”) is soliciting comments on the collections of information summarized below. The Commission plans to submit the existing collection of information to the Office of Management and Budget (“OMB”) for extension and approval.

Under rule 55, a filing must be under section 33(c)(1) of the Act for a “safe harbor” for acquisitions of foreign utility companies by registered holding companies. The filing is made only for foreign utility companies that meet specific criteria. Rule 55 is a proposal, and has not yet been adopted in final. The Commission estimates that 11 annual responses together incur about 39,710 burden hours to comply with these requirements. The Commission estimates that the total annual reporting and recordkeeping burden is 110 (11 annual responses × 10 hours = 110 burden hours). This represents a decrease of 39,600 hours annually in the paperwork burden from the prior estimate, and this decrease was caused by a decrease in the number of annual responses. The Commission needs the information because it gives the registered holding company a “safe harbor” when it acquires a foreign utility company that meets specified criteria. The Commission uses this information to determine the existence of detriment to the interests the Act was designed to protect. Compliance with the requirements to provide the information is mandatory. The information will not be kept confidential.

The estimate of average burden hours is made solely for the purposes of the Paperwork Reduction Act. The estimate is not derived from a comprehensive or even a representative survey or study of the costs of Commission rules and forms.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 5th Street, NW., Washington, DC 20549.

Dated: January 9, 2004.
Margaret H. McFarland,
Deputy Secretary.

[FR Doc. 04-1073 Filed 1-16-04; 8:45 am]

BILLING CODE 8010-01-P